DEPARTMENT OF HEALTH AND HUMAN SERVICES

Health Resources and Services Administration Establishment of the Advisory Committee on Organ Transportation and Solicitation of Nominations for Membership

AGENCY: Health Resources and Services Administration (HRSA), HHS.

ACTION: Notice of establishment of the Advisory Committee on Organ Transplantation and Solicitation of Nominations for Membership.

SUMMARY: Pursuant to 42 CFR 121.12 and Public Law 92-463, the Federal Advisory Committee Act, as amended (5 U.S.C. Appendix 2), the Administrator, HRSA, announces the establishment of the Advisory Committee on Organ Transplantation by the Secretary, HHS. The Committee will advise the Secretary through the Administrator, HRSA, on all aspects of organ procurement, allocation, and transplantation, and on such other matters that the Secretary determines.

Duration of this Committee is for two years unless renewed by the Secretary, HHS.

This notice also requests nominations for membership on the Committee.

DATES: Nominations for members must be received no later than 5 p.m. on October 30, 2000.

ADDRESSES: You may mail or deliver nominations to the following address: Lynn Rothberg Wegman, M.P.A., Director, Division of Transplantation, 5600 Fishers Lane, Room 7C-22, Rockville, MD 20857.

A request for a copy of the charter for the Advisory Committee should be submitted to: Miguel Kamat, Division of Transplantation, 5600 Fishers Lane, Room 7C-22, Rockville, MD 20857 or may be viewed on the Division's website at www.hrsa.gov/osp/dot

FOR FURTHER INFORMATION CONTACT: Lynn Rothberg Wegman, (301) 443-7577.

SUPPLEMENTARY INFORMATION:

I. Background and Authority

As provided by 42 CFR 121.12 (64 FR 56661), the Secretary has established the Advisory Committee on Organ Transplantation. The Committee is governed by the Federal Advisory Committee Act (5 U.S.C. Appendix 2), which sets forth standards for the formation and use of advisory committees.

The Advisory Committee shall advise the Secretary, acting through the Administrator, HRSA, on all aspects of organ procurement, allocation, and transplantation, and on such other matters that the Secretary determines, including:

(1) Proposed enforceable policies of the Organ Procurement and Transplantation Network (OPTN) submitted for Secretarial approval.

(2) Organ allocation policies of the OPTN.

(3) Other significant OPTN policies, existing or proposed.

(4) The OPTN's system of collecting, disseminating and ensuring the validity, accuracy, timeliness and usefulness of data.

(5) The current state of knowledge regarding transplantation.

(6) Additional scientific, medical, public health, ethical, legal, coverage and financing issues and socioeconomic issues, including national and international policies and developments, that are relevant to transplantation.

II. Structure

The Committee shall consist of up to 20 members. The Secretary shall appoint members, including the Chair, from individuals knowledgeable in such fields as health care public policy, transplantation medicine and surgery, non-physician transplant professions, biostatistics, immunology, health economics, epidemiology and bioethics as well as representatives of transplant candidates, transplant recipients, organ donors, and family members. To the extent practicable, Committee members should represent the minority, gender and geographic diversity of transplant candidates, transplant recipients, organ donors and family members served by the OPTN. The Secretary may appoint non-voting Ex-Officio members, or designees of such officials, as the Secretary deems necessary for the Committee to effectively carry out its function.

Subcommittees, composed of members of the parent Committee, may be established to perform specific functions. The HHS Committee Management Officer shall be notified upon establishment of each standing subcommittee and shall be provided with information on its name, membership, function, and estimated frequency of meetings.

A member shall be appointed for a term of 4 years, except that initially the Secretary shall appoint a portion of the members to terms of 1 year, 2 years, and 3 years. Members of the Committee may serve after the expiration of their terms until their successors have taken office.

Meetings shall be held not more than 3 times per year at the call of the Chair with the advance approval of a Federal Government official who shall also approve the agenda. A Federal Government official shall be present at all meetings.

A vacancy on the Advisory Committee shall be filled in the manner in which the original appointment was made and shall be subject to any conditions that applied with respect to the original appointment. An individual chosen to fill a vacancy shall be appointed for the remainder of the term of the member replaced. The vacancy shall not affect the power of the remaining members to execute the duties of the Committee.

All members of HRSA advisory committees shall adhere to the conflict of interest rules applicable to special Government employees as such employees are defined in 18 U.S.C. section 202(a). These rules include relevant provisions in 18 U.S.C. related to criminal activity, Standards of Ethical Conduct for Employees of the Executive branch (5 CFR part 2635), and Executive Order 12674 (as modified by Executive Order 12731).

Management and support services shall be provided by the Director, Division of Transplantation, Office of Special Programs, HRSA.

III. Compensation

Members shall be paid at a rate not to exceed the daily equivalent of the rate in effect for Executive level IV of the Executive Schedule for each day they are engaged in the performance of their duties as members of the Committee. Members shall receive per diem and travel expenses as authorized by 5 U.S.C. 5703, as amended, for persons employed intermittently in the Government service. Members who are officers or employees of the United States shall not receive compensation for service on the Committee.

IV. Nominations

HHS will consider nomination of all qualified individuals with a view to ensuring that the Committee includes the areas of subject matter expertise noted above (see “Structure”). Individuals may nominate themselves or other individuals, and professional associations and other organizations may nominate individuals.

HHS has a strong interest in ensuring that women, minority groups, and physically challenged individuals are adequately represented on the Committee and, therefore, encourages nominations of qualified candidates from these groups. HHS also encourages geographic diversity in the composition of the Committee.

A nomination package should include the following information for each nominee: (1) A letter of nomination stating the name, affiliation, and contact information for the nominee, the basis for the nomination (i.e., what specific attributes recommend him/her for service in this capacity), and the nominee's field(s) of expertise; (2) a biographical sketch of the nominee and a copy of his or her curriculum vitae; and (3) the name, return address, and daytime telephone number at which the nominator can be contacted.

All nomination information should be provided in a single, complete package within 30 days of the publication of this notice. All nominations for membership should be sent to the Director at the address provided above.

Dated: September 11, 2000.
Claude Earl Fox,
Administrator, Health Resources and Services Administration.

[FR Doc. 00-25000 Filed 9-27-00; 8:45 am]

BILLING CODE 4160-15-U